DEPARTMENT OF DEFENSE

Department of the Army, Corps of Engineers

Extension of Comment Period for the South Shore of Staten Island (SSSI) Draft Environmental Impact Statement

AGENCY: U.S. Army Corps of Engineers, DoD.

ACTION: Notice of availability; extension of review period.

SUMMARY: The U.S. Army Corps of Engineers, New York District, has prepared the South Shore of Staten Island (SSSI) Draft Environmental Impact Statement (EIS No. 20150175). A notice of availability was published in the June 19, 2015, issue of the Federal Register (80 FR 35356). The New York District is extending the review period for an additional 30 days.

DATES: Comments on the draft environmental impact statement are due by September 9, 2015.

ADDRESSES: The U.S. Army Corps of Engineers, New York District Planning Division-Environmental Brach (ATTN: Ms. Catherine Alcoba) 26 Federal Plaza, New York, NY 10278-0090. Comments may also be submitted by email to Catherine.J.Alcoba@usace.army.mil.

FOR FURTHER INFORMATION CONTACT: Mr. Frank Verga at Frank.Verga@usace.army.mil.

SUPPLEMENTARY INFORMATION: None.

Dated: June 24, 2015.
Peter Weppler,
Chief, Environmental Analysis Branch, Planning Division, New York District.

[FR Doc. 2015-16262 Filed 6-30-15; 8:45 am]

BILLING CODE 3720-58-P